FEDERAL COMMUNICATIONS COMMISSION

Sunshine Act Meeting; Open Commission Meeting; Friday, April 27, 2012

Date: April 20, 2012.

The Federal Communications Commission will hold an Open Meeting on the subjects listed below on Friday, April 27, 2012, which is scheduled to commence at 10:30 a.m. in Room TW-C305, at 445 12th Street SW., Washington, DC.

Item Nos. | Bureau | Subject
1 | Consumer and Governmental Affairs | Title: Empowering Consumers to Prevent and Detect Billing for Unauthorized Charges (“Cramming”) (CG Docket No. 11-116); Consumer Information and Disclosure (CG Docket No. 09-158) and Truth-in-Billing and Billing Format (CC Docket No. 98-170)
|  | Summary: The Commission will consider a Report and Order and Further Notice of Proposed Rulemaking that protects consumers by adopting and proposing additional rules to help consumers prevent and detect the unlawful and fraudulent placement of unauthorized charges on their telephone bills.
2 | Media | Title: Noncommercial Educational Station Fundraising for Third-Party Non-Profit Organizations
|  | Summary: The Commission will consider a Notice of Proposed Rulemaking inviting comment on whether to allow noncommercial educational broadcast stations to conduct on-air fundraising activities that interrupt regular programming for the benefit of third-party non-profit organizations.
3 | Media | Title: Standardized and Enhanced Disclosure Requirements for Television Broadcast Licensee Public Interest Obligations (MM Docket No. 00-168) and Extension of the Filing Requirement for Children's Television Programming Report (FCC Form 398) (MM Docket No. 00-44)
|  | Summary: The Commission will consider a Second Report and Order that increases transparency and improves public access to community-relevant information by moving the television broadcast station public file from paper to the Internet.
4 | Media and Office of Engineering and Technology | Title: Innovation in the Broadcast Television Bands: Allocations, Channel Sharing and Improvements to VHF (ET Docket No. 10-235)
|  | Summary: The Commission will consider a Report and Order establishing a regulatory framework for channel sharing among television licensees in connection with an incentive auction of spectrum.
5 | Wireline Cometition | Title: Universal Service Contribution Methodology (WC Docket No. 06-122) and A National Broadband Plan for Our Future (GN Docket No. 09-51)
|  | Summary: The Commission will consider a Further Notice of Proposed Rulemaking seeking comment on proposals to reform and modernize how Universal Service Fund contributions are assessed and recovered.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (tty).

Additional information concerning this meeting may be obtained from Audrey Spivack or David Fiske, Office of Media Relations, (202) 418-0500; TTY 1-888-835-5322. Audio/Video coverage of the meeting will be broadcast live with open captioning over the Internet from the FCC Live web page at www.fcc.gov/live.

For a fee this meeting can be viewed live over George Mason University's Capitol Connection. The Capitol Connection also will carry the meeting live via the Internet. To purchase these services call (703) 993-3100 or go to www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by email at FCC@BCPIWEB.com.

Federal Communications Commission.
Marlene H. Dortch,
Secretary, Office of the Secretary, Office of Managing Director.

[FR Doc. 2012-10640 Filed 4-30-12; 11:15 am]

BILLING CODE 6712-01-P